DEPARTMENT OF DEFENSE

Office of the Secretary

Proposed Collection; Comment Request

AGENCY: Office of the Under Secretary of Defense (Personnel and Readiness), DoD.

ACTION: Notice.

In compliance with Section 3506(c)(2)(A) of the Paperwork Reduction Act of 1995, the Office of the Assistant Secretary of Defense (Force Management Policy) announces the following proposed public information collection and seeks public comment on the provisions thereof. Comments are invited on: (a) whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by December 11, 2000.

ADDRESSES: Written comments and recommendations on the proposed information collection should be sent to the Defense Manpower Data Center (Personnel Testing Division), ATTN: Dr. Harley Baker, 400 Gigling Road, Seaside, CA 93955.

FOR FURTHER INFORMATION CONTACT: To request more information on this proposed information collection or to obtain a copy of the proposal and associated collection instruments, please write to the above address or call at (831) 583-2400.

Title, Associated Form, and OMB Control Number: High School Career Development Questionnaire, 0704—[To be determined]

Needs and Uses: This information collection requirement is necessary to increase the utilization of the ASVAB Career Exploration Program (CEP) in the nation's high schools. At no cost to the schools, the CEP provides age-appropriate materials to support high school career counseling and aids in the process of identifying interested students who meet the qualifications for entrance into the nation's Armed Forces. While the CEP is utilized in about 14,000 schools nationwide serving about 850,000 students, this represents only about 13% of the school population. This brief questionnaire study will provide the information needed to modify the CEP to make it more useful both for the schools and the students they serve and for DoD recruiting efforts.

Affected public: Not-for-profit educational institutions.

Annual burden hours: 722.

Number of respondents: 2,166.

Responses per respondent: 1.

Average burden per response: 20 minutes.

Frequency: Other: One-time.

SUPPLEMENTARY INFORMATION:

Summary of Information Collection

This one-time study will employ a brief questionnaire to help document why schools elect to participate in the ASVAB program. The questionnaire will be sent to approximately 3,050 schools, with an expected response rate of about 70%. This study will employ the sampling plan developed by the National Center for Education Statistics (NCES) for their School and Staffing Survey. The information is needed to determine what changes could be made in the ASVAB program to increase its effectiveness in high school career counseling and thus increase its utilization in the schools. The questionnaire focuses on several issues, such as the types of career development programs used in the schools, their strengths and weaknesses, barriers to wider implementation of these programs, and the career development needs of high school students. For those schools that use the CEP, we will ask questions about why they elect to use the ASVAB program, whether participation could be increased among college-bound students, potential ASVAB internet administration, and whether ASVAB personnel negatively affect participation. For nonparticipating schools, we will also ask why they elect not to use the ASVAB program, and to what extent logistical problems, anti-military sentiment, poor fit with school goals, and poor fit with student goals have influenced their decision not to use the ASVAB program. Results will be merged with data collected as part of the NCES School and Staffing Survey to provide a more complete understanding of the reasons schools elect to participate in the CEP. The results of this study will be reported internally to the ASVAB Career Exploration Program and to the appropriate DoD committees and agencies, as well as to the Congressionally-mandated oversight committee. It is anticipated that the results will be of primary interest to those involved in the marketing of the ASVAB program, as well as members of the recruiting community. Only aggregated data will be reported; no individual or school names will be included in the results.

Dated: October 5, 2000.
Patricia L. Toppings,
Alternate OSD Federal Register Liaison Officer, Department of Defense.

[FR Doc. 00-26166 Filed 10-11-00; 8:45 am]

BILLING CODE 5001-10-M